DEPARTMENT OF LABOR

Employment and Training Administration

[TA-W-70,476]

Rockford Corporation, Walker, MI; Notice of Termination of Investigation

Pursuant to Section 221 of the Trade Act of 1974, as amended, an investigation was initiated on May 22, 2009, in response to a petition filed on behalf of workers at Rockford Corporation, Walker, Michigan.

The petitioner has requested that the petition be withdrawn. Consequently, the investigation has been terminated.

Signed at Washington, DC this 22nd day of June 2009.
Elliott S. Kushner,
Certifying Officer, Division of Trade Adjustment Assistance.

[FR Doc. E9-15750 Filed 7-2-09; 8:45 am]

BILLING CODE 4510-FN-P